DEPARTMENT OF TRANSPORTATION

Federal Aviation Administration

14 CFR Part 39

[Docket No. FAA-2014-0646; Directorate Identifier 2013-SW-053-AD; Amendment 39-18174; AD 2015-12-01]

RIN 2120-AA64

Airworthiness Directives; Airbus Helicopters (Previously Eurocopter France) Helicopters

AGENCY: Federal Aviation Administration (FAA), DOT.

ACTION: Final rule.

SUMMARY: We are adopting a new airworthiness directive (AD) for Airbus Helicopters (previously Eurocopter France) Model AS355E, AS355F, AS355F1, and AS355F2 helicopters with a Fueltron flowmeter installed. This AD requires removing each flowmeter, replacing the fuel system hoses, and disabling the electrical connections for the flowmeter installation. This AD was prompted by a report of particle contamination creating an obstruction in a flowmeter which resulted in an uncontrolled flame-out of the engine. The actions of this AD are intended to prevent obstruction of the fuel supply to the flowmeter, which could result in engine flame-out and subsequent loss of control of the helicopter.

DATES: This AD is effective July 14, 2015.

The Director of the Federal Register approved the incorporation by reference of a certain document listed in this AD as of July 14, 2015.

ADDRESSES: For service information identified in this AD, contact Airbus Helicopters, 2701 N. Forum Drive, Grand Prairie, Texas 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137. It is also available on the Internet at http://www.regulations.gov in Docket No. FAA-2014-0646.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: James Blyn, Aviation Safety Engineer, Regulations and Policy Group, Rotorcraft Directorate, FAA, 2601 Meacham Blvd., Fort Worth, Texas 76137; telephone (817) 222-5110; email james.blyn@faa.gov.

SUPPLEMENTARY INFORMATION:

Discussion

On September 15, 2014, at 79 FR 54925, the Federal Register published our notice of proposed rulemaking (NPRM), which proposed to amend 14 CFR part 39 by adding an AD that would apply to Airbus Helicopters Model AS355E, AS355F, AS355F1, and AS355F2 helicopters with a certain flowmeter installed. The NPRM proposed to require, within 750 hours time-in-service, removing the flowmeter from each engine, replacing the fuel hose with part number (P/N) 704A34-416-029 for the left-hand (LH) engine and P/N 704A34-416-030 for the right-hand (RH) engine, removing the flowmeter indicator, and disabling the flowmeter electrical connections. The proposed requirements were intended to prevent obstruction of the fuel supply to the flowmeter, which could result in engine flame-out and subsequent loss of control of the helicopter.

The NPRM was prompted by AD No. 2013-0205, dated September 9, 2013, issued by EASA, which is the Technical Agent for the Member States of the European Union, to correct an unsafe condition for Eurocopter (now Airbus Helicopters) Model AS355 E, AS355 F, AS355 F1, and AS355 F2 helicopters with modification 350A070791 (installation of the Fueltron flowmeter), except helicopters with modification 355A085801 (removal of the Fueltron flowmeter). EASA advises, after landing, an AS355 helicopter experienced an uncontrolled flame-out of the No. 1 engine caused by particle contamination in the fuel that obstructed the Fueltron flowmeter. EASA further states that because the flowmeter installation is identical on both engines, this condition could lead to flame-out of both engines in flight, possibly resulting in reduced control of the helicopter. EASA AD No. 2013-0205 requires removing the flowmeter from each engine, modifying the fuel line system with new fuel lines, removing the flowmeter indicator, and disabling the flowmeter electrical connections. Since we issued the NPRM (79 FR 54925, September 15, 2014), the title of the approving official for Alternative Methods of Compliance (AMOCs) has changed. Thus, we have revised the title of the approving official from the Manager of the Regulations and Policy Group to the Manager of the Safety Management Group.

Comments

We gave the public the opportunity to participate in developing this AD, but we did not receive any comments on the NPRM (79 FR 54925, September 15, 2014).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Interim Action

We consider this AD to be an interim action. The design approval holder is currently developing a modification that will address the unsafe condition identified in this AD. Once this modification is developed, approved, and available, we might consider additional rulemaking.

Related Service Information Under 1 CFR Part 51

Eurocopter issued Alert Service Bulletin (ASB) No. AS355-28.00.20, Revision 0, dated June 6, 2013, for Model AS355 E, AS355 F, AS355 F1, and AS355 F2 helicopters, which describes procedures for removing and disabling the Fueltron flowmeter installation. The ASB corresponds to Eurocopter modification 355A085801. This information is reasonably available because the interested parties have access to it through their normal course of business or by the means identified in the ADDRESSES section of this AD.

Costs of Compliance

We estimate that this AD will affect 47 helicopters of U.S. Registry. We estimate that operators may incur the following costs in order to comply with this AD. At an average labor rate of $85 per work-hour, removing the flowmeter installation requires about 4 work-hours, and required parts cost about $1,600, for a cost per helicopter of $1,940 and a total cost of $91,180 for the fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-12-01 Airbus Helicopters (Previously Eurocopter France): Amendment 39-18174; Docket No. FAA-2014-0646; Directorate Identifier 2013-SW-053-AD.

(a) Applicability

This AD applies to Airbus Helicopters Model AS355E, AS355F, AS355F1, and AS355F2 helicopters, certificated in any category, with a Fueltron flowmeter part number (P/N) 704A37-670-001 installed.

(b) Unsafe Condition

This AD defines the unsafe condition as obstruction of the fuel supply to the flowmeter, which could result in engine shutdown and subsequent loss of control of the helicopter.

(c) Effective Date

This AD becomes effective July 14, 2015.

(d) Compliance

You are responsible for performing each action required by this AD within the specified compliance time unless it has already been accomplished prior to that time.

(e) Required Actions

(1) Within 750 hours time-in-service:

(i) Remove each flowmeter.

(ii) Remove each left-hand hose, P/N 704A34.4160.31, and install hose, P/N 704A34-416-029, as depicted in Figures 1 and 2 of Eurocopter Alert Service Bulletin No. AS355-28.00.20, Revision 0, dated June 6, 2013 (ASB AS355-28.00.20).

(iii) Remove each right-hand hose, P/N 704A34.4160.32, and install hose, P/N 704A34-416-030, as depicted in Figures 1 and 2 of ASB AS355-28.00.20.

(iv) Remove each flowmeter indicator and disable the flowmeter wiring as described in the Accomplishment Instructions, paragraph 3.B.2.b., of ASB AS355-28.00.20.

(2) After the effective date of this AD, do not install a flowmeter, P/N 704A37-670-001, on any helicopter.

(f) Special Flight Permits

Special flight permits are prohibited.

(g) Alternative Methods of Compliance (AMOCs)

(1) The Manager, Safety Management Group, FAA, may approve AMOCs for this AD. Send your proposal to: James Blyn, Aviation Safety Engineer, Regulations and Policy Group, Rotorcraft Directorate, FAA, 2601 Meacham Blvd., Fort Worth, Texas 76137; telephone (817) 222-5110; email james.blyn@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD 2013-0205, dated September 9, 2013. You may view the EASA AD on the Internet at http://www.regulations.gov in Docket No. FAA-2014-0646.

(i) Subject

Joint Aircraft Service Component (JASC) Code: 7333, Fuel Flow Sensor.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Eurocopter Alert Service Bulletin No. AS355-28.00.20, Revision 0, dated June 6, 2013.

(ii) Reserved.

(3) For Eurocopter service information identified in this AD, contact Airbus Helicopters, 2701 N. Forum Drive, Grand Prairie, Texas 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 29, 2015.
Lance T. Gant,
Acting Directorate Manager, Rotorcraft Directorate, Aircraft Certification Service.

[FR Doc. 2015-13851 Filed 6-8-15; 8:45 am]

BILLING CODE 4910-13-P